DEPARTMENT OF ENERGY

Federal Energy Regulatory Commission

Combined Notice of Filings #1

Take notice that the Commission received the following electric rate filings:

Docket Numbers: ER10-3081-004.

Applicants: Equilon Enterprises LLC.

Description: Equilon Enterprises LLC MBR Tariff to be effective 12/27/2012.

Filed Date: 4/30/13.

Accession Number: 20130430-5335.

Comments Due: 5 p.m. ET 5/21/13.

Docket Numbers: ER13-347-002.

Applicants: PJM Interconnection, L.L.C.

Description: Compliance Filing per 4/1/2013 Order in Docket No. ER13-347-001 to be effective 1/8/2013.

Filed Date: 4/30/13.

Accession Number: 20130430-5318.

Comments Due: 5 p.m. ET 5/21/13.

Docket Numbers: ER13-1366-000.

Applicants: Public Service Company of New Mexico.

Description: City of Gallup Network Integration Transmission Service Agreement to be effective 4/1/2013.

Filed Date: 4/30/13.

Accession Number: 20130430-5250.

Comments Due: 5 p.m. ET 5/21/13.

Docket Numbers: ER13-1367-000.

Applicants: Duke Energy Carolinas, LLC.

Description: Blue Ridge FRPPA-RS 315 Revisions (2013) to be effective 7/2/2012.

Filed Date: 4/30/13.

Accession Number: 20130430-5288.

Comments Due: 5 p.m. ET 5/21/13.

Docket Numbers: ER13-1368-000.

Applicants: NaturEner Wind Watch, LLC.

Description: Market-Based Rate Application and Request for Waivers and Blanket Authorization to be effective 5/1/2013.

Filed Date: 4/30/13.

Accession Number: 20130430-5290.

Comments Due: 5 p.m. ET 5/21/13.

Docket Numbers: ER13-1369-000.

Applicants: Duke Energy Carolinas, LLC.

Description: Greenwood PPA-RS 334 to be effective 7/2/2012.

Filed Date: 4/30/13.

Accession Number: 20130430-5293.

Comments Due: 5 p.m. ET 5/21/13.

Docket Numbers: ER13-1370-000.

Applicants: MATL LLP.

Description: Tariff Revisions to be effective 7/1/2013.

Filed Date: 4/30/13.

Accession Number: 20130430-5303.

Comments Due: 5 p.m. ET 5/21/13.

Docket Numbers: ER13-1371-000.

Applicants: GP Big Island, LLC.

Description: Refile Change in tariff title to be effective 5/1/2013.

Filed Date: 4/30/13.

Accession Number: 20130430-5310.

Comments Due: 5 p.m. ET 5/21/13.

Docket Numbers: ER13-1372-000.

Applicants: California Independent System Operator Corporation.

Description: 2013-04-30 PacifiCorp EIM Agreement to be effective 7/1/2013.

Filed Date: 4/30/13.

Accession Number: 20130430-5337.

Comments Due: 5 p.m. ET 5/21/13.

Docket Numbers: ER13-1373-000.

Applicants: Alabama Power Company.

Description: SMEPA NITSA Amendment Filing—To Add Sunplex Delivery Point to be effective 4/1/2013.

Filed Date: 4/30/13.

Accession Number: 20130430-5352.

Comments Due: 5 p.m. ET 5/21/13.

Docket Numbers: ER13-1374-000.

Applicants: California Power Exchange Corporation.

Description: Rate Filing for Rate Period 23 to be effective 7/1/2013.

Filed Date: 4/30/13.

Accession Number: 20130430-5359.

Comments Due: 5 p.m. ET 5/21/13.

Docket Numbers: ER13-1375-000.

Applicants: Arizona Public Service Company.

Description: Rate Schedule No. 33—WAPA Triangle Agreement to be effective 6/29/2013.

Filed Date: 4/30/13.

Accession Number: 20130430-5397.

Comments Due: 5 p.m. ET 5/21/13.

Docket Numbers: ER13-1376-000.

Applicants: Arizona Public Service Company.

Description: Rate Schedule No. 3—SRP Power Coordination Agreement to be effective 6/29/2013.

Filed Date: 4/30/13.

Accession Number: 20130430-5402.

Comments Due: 5 p.m. ET 5/21/13.

Docket Numbers: ER13-1377-000.

Applicants: Southwest Power Pool, Inc.

Description: 1630R3 The Empire District Electric Company NITSA and NOA to be effective 4/1/2013.

Filed Date: 4/30/13.

Accession Number: 20130430-5417.

Comments Due: 5 p.m. ET 5/21/13.

Docket Numbers: ER13-1378-000.

Applicants: Southwest Power Pool, Inc.

Description: Revisions to Implement City of Coffeyville Formula Rates to be effective 7/1/2013.

Filed Date: 4/30/13.

Accession Number: 20130430-5446.

Comments Due: 5 p.m. ET 5/21/13.

Docket Numbers: ER13-1379-000.

Applicants: Southwest Power Pool, Inc.

Description: Southwest Power Pool, Inc. submits tariff filing per 35.13(a)(2)(iii: Revisions to Att. L, Section III—Distribution of Revenues to be effective 7/1/2013.

Filed Date: 4/30/13.

Accession Number: 20130430-5487.

Comments Due: 5 p.m. ET 5/21/13.

Docket Numbers: ER13-1380-000.

Applicants: New York Independent System Operator, Inc.

Description: New York Independent System Operator, Inc. submits tariff filing per 35.13(a)(2)(iii: NYISO Tariff Revisions—New Capacity Zone to be effective 7/1/2013.

Filed Date: 4/30/13.

Accession Number: 20130430-5489.

Comments Due: 5 p.m. ET 5/21/13.

Docket Numbers: ER13-1381-000.

Applicants: Commonwealth Edison Company, PJM Interconnection, L.L.C.

Description: Commonwealth Edison Company submits tariff filing per 35.13(a)(2)(iii: ComEd files PJM SA No. 3530 among ComEd and Ameren to be effective 5/1/2013.

Filed Date: 4/30/13.

Accession Number: 20130430-5491.

Comments Due: 5 p.m. ET 5/21/13.

Docket Numbers: ER13-1382-000.

Applicants: Public Service Company of Colorado.

Description: 20130430_Holy Cross Filing to be effective 5/1/2013.

Filed Date: 4/30/13.

Accession Number: 20130430-5493.

Comments Due: 5 p.m. ET 5/21/13.

Take notice that the Commission received the following electric securities filings:

Docket Numbers: ES13-11-000.

Applicants: Monongahela Power Company.

Description: FirstEnergy Service Company, on behalf of Monongahela Power Company, submits Updated and Revised Exhibits C, D and E.

Filed Date: 4/30/13.

Accession Number: 20130430-5536.

Comments Due: 5 p.m. ET 5/10/13.

Take notice that the Commission received the following land acquisition reports:

Docket Numbers: LA13-1-000.

Applicants: Spring Canyon Energy LLC, Judith Gap Energy LLC, Invenergy TN, LLC, Wolverine Creek Energy LLC, Grays Harbor Energy LLC, Forward Energy LLC, Willow Creek Energy LLC, Sheldon Energy LLC, Hardee Power Partners Limited, Spindle Hill Energy LLC, Invenergy Cannon Falls LLC, Beech Ridge Energy LLC, Grand Ridge Energy LLC, Grand Ridge Energy II LLC, Grand Ridge Energy III LLC, Grand Ridge Energy IV LLC, Grand Ridge Energy V LLC, Vantage Wind Energy LLC, Stony Creek Energy LLC, Gratiot County Wind LLC, Gratiot County Wind II LLC, Bishop Hill Energy LLC, Bishop Hill Energy III LLC, California Ridge Wind Energy LLC.

Description: Quarterly Land Acquisition Report of Spring Canyon Energy LLC, et al.

Filed Date: 4/30/13.

Accession Number: 20130430-5521.

Comments Due: 5 p.m. ET 5/21/13.

Docket Numbers: LA13-1-000.

Applicants: Alabama Electric Marketing, LLC, Big Sandy Peaker Plant, LLC, California Electric Marketing, LLC, Crete Energy Venture, LLC, CSOLAR IV South, LLC, High Desert Power Project, LLC, Kiowa Power Partners, LLC, Lincoln Generating Facility, LLC, New Covert Generating Company, LLC, New Mexico Electric Marketing, LLC, Rolling Hills Generating, L.L.C., Tenaska Alabama Partners, L.P., Tenaska. Alabama II Partners, L.P., Tenaska Frontier Partners, Ltd., Tenaska Gateway Partners, Ltd., Tenaska Georgia Partners, L.P., Tenaska Power Management, LLC, Tenaska Power Services Co., Tenaska Virginia Partners, L.P., Texas Electric Marketing, LLC, TPF Generation Holdings, LLC, Wolf Hills Energy, LLC.

Description: Quarterly Land Acquisition Report of Alabama Electric Marketing, LLC, et al.

Filed Date: 4/30/13.

Accession Number: 20130430-5533.

Comments Due: 5 p.m. ET 5/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2013.
Nathaniel J. Davis, Sr.,
Deputy Secretary.

[FR Doc. 2013-11419 Filed 5-13-13; 8:45 am]

BILLING CODE 6717-01-P